DEPARTMENT OF TRANSPORTATION

Federal Aviation Administration

14 CFR Part 39

[Docket No. 2000-NM-241-AD; Amendment 39-12391; AD 2001-16-22]

RIN 2120-AA64

Airworthiness Directives; McDonnell Douglas Model DC-10-30 Series Airplanes Modified by Supplemental Type Certificate SA8452SW

AGENCY: Federal Aviation Administration, DOT.

ACTION: Final rule.

SUMMARY: This amendment adopts a new airworthiness directive (AD), applicable to all McDonnell Douglas Model DC-10-30 series airplanes modified by supplemental type certificate SA8452SW, that requires modification of the in-flight entertainment (IFE) system and revision of the Airplane Flight Manual and the Inflight Manual. This action is necessary to ensure that the airplane crew is able to remove electrical power from the IFE system when necessary and is advised of appropriate procedures for such action. Inability to remove power from the IFE system during a non-normal or emergency situation could result in inability to control smoke or fumes in the airplane flight deck or cabin. This action is intended to address the identified unsafe condition.

DATES: Effective September 21, 2001.

The incorporation by reference of certain publications listed in the regulations is approved by the Director of the Federal Register as of September 21, 2001.

ADDRESSES: The service information referenced in this AD may be obtained from Continental Airlines, Inc., 600 Jefferson Street HQJAV, Houston, Texas 77002. This information may be examined at the Federal Aviation Administration (FAA), Transport Airplane Directorate, Rules Docket, 1601 Lind Avenue, SW., Renton, Washington; at the FAA, Fort Worth Airplane Certification Office, 2601 Meacham Blvd., Fort Worth, Texas; or at the Office of the Federal Register, 800 North Capitol Street, NW., suite 700, Washington, DC.

FOR FURTHER INFORMATION CONTACT: Ingrid Knox, Aerospace Engineer, ASW-150, FAA, Fort Worth Airplane Certification Office, 2601 Meacham Blvd., Fort Worth, Texas 76137-4298; telephone (817) 222-5139; fax (817) 222-5960.

SUPPLEMENTARY INFORMATION: A proposal to amend part 39 of the Federal Aviation Regulations (14 CFR part 39) to include an airworthiness directive (AD) that is applicable to all McDonnell Douglas Model DC-10-30 series airplanes modified by supplemental type certificate (STC) SA8452SW was published in the Federal Register on March 2, 2001 (66 FR 13207). That action proposed to require modification of the in-flight entertainment (IFE) system and revision of the Airplane Flight Manual and the Inflight Manual.

Comments

Interested persons have been afforded an opportunity to participate in the making of this amendment. Due consideration has been given to the comments received.

Withdraw the Proposed AD

One commenter states that the proposed AD is not necessary because the subject IFE system was installed by an approved STC. The commenter acknowledges that there is not a single switch that can remove power from all components of the system, but notes that power may be removed from the separate components of the IFE system (e.g., components that supply audio broadcasts, video broadcasts, or boarding music). This is accomplished by pulling appropriate circuit breakers or using dedicated power switches for each separate component of the IFE system.

The FAA infers that the commenter is requesting that we withdraw the proposed rule. We do not concur. We have determined that it is necessary to require a modification of the IFE system to install a master power switch and relay to enable the cabin crew to remove power from the entire IFE system with a single action. This will allow the airplane crew to quickly identify and isolate smoke or fumes that may be caused by the components or wiring of the IFE system. Further, we have determined that it is necessary to revise applicable manuals to inform the flight and cabin crews how to remove power from the IFE system in a single action, to aid them in determining whether or not the IFE system is the source of smoke or fumes. We also note that we do not certify circuit breakers to be used as switches on transport category airplanes. The use of circuit breakers as switches may result in degradation of the circuit breakers to the point where they will not trip at their rated current, thus creating a potentially unsafe condition by not protecting the wiring of associated systems. No change to the final rule is necessary.

Compliance Times for Future ADs

One commenter states that it has no comments specific to the proposed actions. However, the commenter states that, if the FAA issues further rulemaking that applies to other IFE systems installed on other airplane models by STC, we should start the 18-month compliance time only after the following events have occurred:

• The FAA has approved an engineering data package generated by the STC holder.

• The STC holder has made modification kits available.

We acknowledge the commenter's concern with the compliance time for further rulemaking actions. As we stated in the proposed AD, in developing an appropriate compliance time for this and similar actions on IFE systems installed by STC, we considered not only the degree of urgency associated with addressing the subject unsafe condition, but the amount of time necessary to accomplish the proposed actions, the availability of necessary parts, and the practical aspect of accomplishing the proposed actions within an interval of time that parallels normal scheduled maintenance for the affected operators. If we issue further rulemaking on other IFE systems installed on other airplane models, we will again consider these factors, as well as any others that are relevant.

Conclusion

After careful review of the available data, including the comments noted above, the FAA has determined that air safety and the public interest require the adoption of the rule as proposed.

Cost Impact

There are approximately 31 Model DC-10-30 series airplanes of the affected design in the worldwide fleet. The FAA estimates that 31 airplanes of U.S. registry will be affected by this AD.

It will take approximately 16 work hours per airplane to accomplish the required modification, at an average labor rate of $60 per work hour. Required parts will cost approximately $2,000 per airplane. Based on these figures, the cost impact of this modification on the affected U.S. operator is estimated to be $91,760, or $2,960 per airplane.

It will take approximately 1 work hour per airplane to accomplish the required manual revisions, at an average labor rate of $60 per work hour. Based on these figures, the cost impact of these manual revisions on the affected U.S. operator is estimated to be $1,860, or $60 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-16-22 McDonnell Douglas: Amendment 39-12391. Docket 2000-NM-241-AD.

Applicability: Model DC-10-30 series airplanes modified by supplemental type certificate (STC) SA8452SW; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To ensure that the airplane crew is able to remove electrical power from the in-flight entertainment (IFE) system when necessary and is advised of appropriate procedures for such action, accomplish the following:

Modification

(a) Within 18 months after the effective date of this AD, accomplish paragraphs (a)(1), (a)(2), and (a)(3) of this AD.

(1) Modify the IFE system to incorporate a master power switch and relay, in accordance with Continental Airlines Top Drawing 2330DA11072, Revision B, dated September 15, 2000.

(2) Revise the “Electrical Fire or Smoke Source Unknown Checklist” in the Airplane Flight Manual to alert the flight crew to the existence of the master power switch for the IFE system, in accordance with Continental Airlines Engineering Change/Repair Authorization (EC/RA) 2330-02334, dated September 15, 2000.

(3) Revise the “Fires” section, “General Procedures” paragraph, and “Smoke in the Cabin” section of the Inflight Manual to alert the flight crew and cabin crew to the existence of the master power switch for the IFE system and to inform the flight crew and cabin crew of where to find and how to operate the switch, in accordance with Continental Airlines EC/RA 2330-02335, dated September 15, 2000.

Note 2: Continental Airlines Top Drawing 2330DA11072, Revision B, refers to the following Continental Airlines drawings as additional sources of information for accomplishment of the modification: 1100DB11064, Revision A, dated September 5, 2000; 2330DB11063, dated August 2, 2000; 2500DB11059, Revision A, dated August 18, 2000; 2330DB11073, Revision A, dated September 5, 2000; 2330DA11074, Revision A, dated September 5, 2000; and 2330DB11075, Revision A, dated September 5, 2000.

Spares

(b) As of the effective date of this AD, no person shall install an IFE system in accordance with STC SA8452SW on any airplane, unless it is modified and the applicable manuals are revised in accordance with this AD.

Alternative Methods of Compliance

(c) An alternative method of compliance or adjustment of the compliance time that provides an acceptable level of safety may be used if approved by the Manager, Fort Worth Airplane Certification Office (ACO), FAA. Operators shall submit their requests through an appropriate FAA Principal Maintenance Inspector, who may add comments and then send it to the Manager, Fort Worth ACO.

Note 3: Information concerning the existence of approved alternative methods of compliance with this AD, if any, may be obtained from the Fort Worth ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Continental Airlines Top Drawing 2330DA11072, Revision B, dated September 15, 2000; Continental Airlines Engineering Change/Repair Authorization 2330-02334, dated September 15, 2000; and Continental Airlines Engineering Change/Repair Authorization 2330-02335, dated September 15, 2000; as applicable. This incorporation by reference was approved by the Director of the Federal Register in accordance with 5 U.S.C. 552(a) and 1 CFR part 51. Copies may be obtained from Continental Airlines, Inc., 600 Jefferson Street HQJAV, Houston, Texas 77002. Copies may be inspected at the FAA, Transport Airplane Directorate, 1601 Lind Avenue, SW., Renton, Washington; at the FAA, Fort Worth Airplane Certification Office, 2601 Meacham Blvd., Fort Worth, Texas; or at the Office of the Federal Register, 800 North Capitol Street, NW., suite 700, Washington, DC.

Effective Date

(f) This amendment becomes effective on September 21, 2001.

Issued in Renton, Washington, on August 9, 2001.
Vi L. Lipski,
Manager, Transport Airplane Directorate, Aircraft Certification Service.

[FR Doc. 01-20589 Filed 8-16-01; 8:45 am]

BILLING CODE 4910-13-U